SMALL BUSINESS ADMINISTRATION

[Declaration of Disaster #3548]

District of Columbia

As a result of the President's major disaster declaration on September 20, 2003, I find that the District of Columbia constitutes a disaster area due to damages caused by Hurricane Isabel occurring on September 18, 2003 and continuing. Applications for loans for physical damage as a result of this disaster may be filed until the close of business on November 19, 2003 and for economic injury until the close of business on June 21, 2004 at the address listed below or other locally announced locations:

U.S. Small Business Administration, Disaster Area 1 Office, 360 Rainbow Blvd., South 3rd Fl., Niagara Falls, NY 14303-1192.

In addition, applications for economic injury loans from small businesses located in the following contiguous counties may be filed until the specified date at the above location: Montgomery and Prince George's counties in the State of Maryland; the Independent City of Alexandria and Arlington and Fairfax counties in the Commonwealth of Virginia.

The interest rates are:

| Percent
For Physical Damage:
Homeowners with credit available elsewhere | 5.125
Homeowners without credit available elsewhere | 2.562
Businesses with credit available elsewhere | 6.199
Businesses and non-profit organizations without credit available elsewhere | 3.100
Others (including non-profit organizations) with credit available elsewhere | 5.500
For Economic Injury:
Businesses and small agricultural cooperatives without credit available elsewhere | 3.100

The number assigned to this disaster for physical damage is 354808. For economic injury the number is 9X0900 for District of Columbia; 9X0500 for Maryland; and 9X0100 for Virginia.

(Catalog of Federal Domestic Assistance Program Nos. 59002 and 59008)
Dated: September 22, 2003.
Cheri L. Cannon,
Acting Associate Administrator, For Disaster Assistance.

[FR Doc. 03-24542 Filed 9-26-03; 8:45 am]

BILLING CODE 8025-01-P